DEPARTMENT OF ENERGY

Federal Energy Regulatory Commission

Combined Notice of Filings #1

Take notice that the Commission received the following electric corporate filings:

Docket Numbers: EC17-109-000.

Applicants: ALLETE Clean Energy, Inc., ALLETE, Inc.

Description: Application for Authorization Under Section 203 of the Federal Power Act of ALLETE, Inc., et al.

Filed Date: 4/26/17.

Accession Number: 20170426-5348.

Comments Due: 5 p.m. ET 5/17/17.

Take notice that the Commission received the following electric rate filings:

Docket Numbers: ER12-1933-007.

Applicants: Interstate Power and Light Company.

Description: Notification of Change of Status of Interstate Power and Light Company.

Filed Date: 4/26/17.

Accession Number: 20170426-5411.

Comments Due: 5 p.m. ET 5/17/17.

Docket Numbers: ER14-1883-004.

Applicants: Allegheny Energy Supply Company, LLC.

Description: Compliance filing: eTariff Record for Reactive Power Rate Schedule No. 12 (ER06-888) to be effective 6/1/2014.

Filed Date: 4/26/17.

Accession Number: 20170426-5275.

Comments Due: 5 p.m. ET 5/4/17.

Docket Numbers: ER14-2140-006; ER14-2141-006; ER15-632-006; ER15-634-006; ER14-2466-007; ER14-2465-007; ER14-2939-004; ER15-1952-004; ER15-2728-006.

Applicants: Mulberry Farm, LLC, Selmer Farm, LLC, CID Solar, LLC, Cottonwood Solar, LLC, RE Camelot LLC, RE Columbia Two LLC, Pavant Solar, LLC, Imperial Valley Solar Company (IVSC) 2 LLC, Maricopa West Solar PV, LLC.

Description: Notice of Non-Material Change in Status of the Dominion Companies.

Filed Date: 4/26/17.

Accession Number: 20170426-5393.

Comments Due: 5 p.m. ET 5/17/17.

Docket Numbers: ER17-950-002.

Applicants: PJM Interconnection, L.L.C.

Description: Tariff Amendment: Errata to ConEd Wheeling Termination in ER17-950-000 to correct BGE's Allocation to be effective 5/1/2017.

Filed Date: 4/26/17.

Accession Number: 20170426-5171.

Comments Due: 5 p.m. ET 5/17/17.

Docket Numbers: ER17-1054-001.

Applicants: PSEG Energy Resources & Trade LLC.

Description: PSEG Energy Resources & Trade LLC submits tariff filing per 35.17(b): Amendment and Cancellation of certain tariff records to be effective 6/1/2017 and 4/26/2017.

Filed Date: 4/27/17.

Accession Number: 20170427-5000.

Comments Due: 5 p.m. ET 5/18/17.

Docket Numbers: ER17-1480-000.

Applicants: First Wind Energy Marketing, LLC.

Description: Tariff Cancellation: Notice of Cancellation of Market-Based Rate Tariff to be effective 4/28/2017.

Filed Date: 4/27/17.

Accession Number: 20170427-5147.

Comments Due: 5 p.m. ET 5/18/17.

Docket Numbers: ER17-1481-000.

Applicants: Longfellow Wind, LLC.

Description: Tariff Cancellation: Notice of Cancellation of Market-Based Rate Tariff to be effective 4/28/2017.

Filed Date: 4/27/17.

Accession Number: 20170427-5148.

Comments Due: 5 p.m. ET 5/18/17.

Docket Numbers: ER17-1482-000.

Applicants: Southwest Power Pool, Inc.

Description: § 205(d) Rate Filing: Revisions to Attachment AE to Add Term Instantaneous Load Capacity to be effective 6/27/2017.

Filed Date: 4/27/17.

Accession Number: 20170427-5163.

Comments Due: 5 p.m. ET 5/18/17.

Docket Numbers: ER17-1483-000.

Applicants: California Power Exchange Corporation.

Description: § 205(d) Rate Filing: Rate Filing for Rate Period 31 to be effective 7/1/2017.

Filed Date: 4/27/17.

Accession Number: 20170427-5167.

Comments Due: 5 p.m. ET 5/18/17.

Docket Numbers: ER17-1484-000.

Applicants: Southern California Edison Company.

Description: § 205(d) Rate Filing: Two Service Agreements for Wholesale Distribution Service Ecos Energy, LLC to be effective 6/27/2017.

Filed Date: 4/27/17.

Accession Number: 20170427-5232.

Comments Due: 5 p.m. ET 5/18/17.

Docket Numbers: ER17-1485-000.

Applicants: PJM Interconnection, L.L.C.

Description: § 205(d) Rate Filing: Second Revised SA No. 3203, Queue No. W3-079 to be effective 4/7/2017.

Filed Date: 4/27/17.

Accession Number: 20170427-5233.

Comments Due: 5 p.m. ET 5/18/17.

Docket Numbers: ER17-1486-000.

Applicants: Duke Energy Carolinas, LLC.

Description: § 205(d) Rate Filing: DEC-Forest City Revised PPA RS No. 330 to be effective 7/1/2017.

Filed Date: 4/27/17.

Accession Number: 20170427-5234.

Comments Due: 5 p.m. ET 5/18/17.

Docket Numbers: ER17-1487-000.

Applicants: RC Cape May Holdings, LLC.

Description: Tariff Cancellation: Notice of Cancellation of Reactive Tariff to be effective 5/1/2017.

Filed Date: 4/27/17.

Accession Number: 20170427-5246.

Comments Due: 5 p.m. ET 5/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2017.
Kimberly D. Bose,
Secretary.

[FR Doc. 2017-09112 Filed 5-4-17; 8:45 am]

BILLING CODE 6717-01-P